DEPARTMENT OF THE INTERIOR

Bureau of Indian Affairs

[2121A2100DD/AAKC001030/ A0A501010.999900 253G; OMB Control Number 1076-0018]

Agency Information Collection Activities; Bureau of Indian Education Tribal Colleges and Universities; Application for Grants and Annual Report Form

AGENCY: Bureau of Indian Affairs, Interior.

ACTION: Notice of information collection; request for comment.

SUMMARY: In accordance with the Paperwork Reduction Act of 1995, we, the Bureau of Indian Education (BIE) are proposing to renew an information collection with revisions.

DATES: Interested persons are invited to submit comments on or before July 19, 2021.

ADDRESSES: Send written comments on this information collection request (ICR) to Dr. Katherine Campbell, Program Analyst, Office of Research, Policy and Post-Secondary, at 12220 Sunrise Valley Drive, Reston, VA 20191 or by email to Katherine.Campbell@bie.edu. Please reference OMB Control Number 1076-0018 in the subject line of your comments.

FOR FURTHER INFORMATION CONTACT: To request additional information about this ICR, contact Dr. Katherine Campbell by email at Katherine.Campbell@bie.edu, or by telephone at (703) 390-6697.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Each tribally-controlled college or university requesting financial assistance under the Tribally Controlled Colleges and Universities Assistance Act of 1978 (the Act) (25 U.S.C. 1801 et seq.), which provides grants to Tribally Controlled Colleges or Universities for the purpose of ensuring continued and expanded educational opportunities for Indian students. Similarly, each Tribally Controlled College or University that receives financial assistance is required by Sec. 107(c)(1) of the Act and 25 CFR part 41 to provide a report on the use of funds received.

Title of Collection: Bureau of Indian Education Tribal Colleges and Universities; Application for Grants and Annual Report Form.

OMB Control Number: 1076-0018.

Form Number: BIE-62107, BIE-6259, BIE Form 22, and the Third Week Monitoring Form.

Type of Review: Extension of a currently approved collection.

Respondents/Affected Public: Tribal college and university administrators.

Total Estimated Number of Annual Respondents: 29 per year, on average.

Total Estimated Number of Annual Responses: 29 per year, on average.

Estimated Completion Time per Response: Varies from 1 hour to 11 hours.

Total Estimated Number of Annual Burden Hours: 870 hours.

Respondent's Obligation: Required to Obtain a Benefit.

Frequency of Collection: Annually.

Total Estimated Annual Nonhour Burden Cost: $0.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2021-10652 Filed 5-19-21; 8:45 am]

BILLING CODE 4337-15-P